DEPARTMENT OF AGRICULTURE

Animal and Plant Health Inspection Service

[Docket No. APHIS-2022-0026]

Notice of Request for Revision to and Extension of Approval of an Information Collection; National Animal Health Reporting System

AGENCY: Animal and Plant Health Inspection Service, USDA.

ACTION: Revision to and extension of approval of an information collection; comment request.

SUMMARY: In accordance with the Paperwork Reduction Act of 1995, this notice announces the Animal and Plant Health Inspection Service's (APHIS') intention to request a revision to and extension of approval of an information collection associated with APHIS' National List of Reportable Animal Diseases National Animal Health Reporting System.

DATES: We will consider all comments that we receive on or before August 8, 2022.

ADDRESSES: You may submit comments by either of the following methods:

• Federal eRulemaking Portal: Go to www.regulations.gov. Enter APHIS-2022-0026 in the Search field. Select the Documents tab, then select the Comment button in the list of documents.

• Postal Mail/Commercial Delivery: Send your comment to Docket No. APHIS-2022-0026, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For more information on the National Animal Health Reporting System, contact Mr. William Kelley, Assistant Director, Program Coordination & Implementation, Center for Epidemiology and Animal Health, VS, APHIS, 2150 Centre Avenue, Building B, MS 2E6, Fort Collins, CO 80526; (970) 494-7270; NLRAD.NAHRS@usda.gov. For information about the information collection process, contact Mr. Joseph Moxey, APHIS' Paperwork Reduction Act Coordinator, at (301) 851-2483.

SUPPLEMENTARY INFORMATION:

Title: National Animal Health Reporting System.

OMB Control Number: 0579-0299.

Type of Request: Revision to and extension of approval of an information collection.

Abstract: Under the Animal Health Protection Act (7 U.S.C. 8301 et seq.), the Animal Plant Health Inspection Service (APHIS) is authorized, among other things, to prohibit or restrict the importation and interstate movement of animals and other articles to prevent the introduction and interstate spread of livestock diseases and to eradicate such diseases from the United States when feasible. In connection with this mission, APHIS operates the National Animal Health Reporting System (NAHRS), which collects, on a national basis, monthly data from State veterinarians on the presence or absence of diseases of interest to the World Organization for Animal Health (WOAH).¹

¹ On May 28, 2022, the World Organization for Animal Health announced a change to its acronym from OIE to WOAH to match its full name. See https://www.woah.org/en/the-world-organisation-for-animal-health-launches-its-refreshed-brand-identity/.

As a member country of WOAH, the United States must submit reports to WOAH on the status of certain diseases in specific livestock, poultry, and aquaculture species. Reportable diseases are diseases that have the potential for rapid spread, irrespective of national borders, that are of serious socioeconomic or public health consequence, and that are of major importance in the international trade of animals and animal products. The potential benefits to trade of accurate reporting on the health status of the U.S. commercial livestock, poultry, and aquaculture industries include expansion of those industries into new export markets and preservation of existing markets through increased confidence in quality and disease freedom. This data collection is unique in terms of the type, quantity, and frequency because no other entity is collecting and reporting data to WOAH on the health status of U.S. livestock, poultry, and aquaculture. Information collected from the States include monthly NAHRS 1 reports and National List of Reportable Animal Diseases NAHRS 2 emerging disease reporting forms, and from the private sector, National Veterinary Services Laboratories (NVSL) 201 requests for information from U.S. testing laboratories engaged in the testing of animals for SARS CoV-2.

The NAHRS 2 and NVSL 201 burden, which is currently under Office of Management and Budget (OMB) control number 0579-0476 (SARS-CoV-2 Testing in Animals Reporting Activities), is being merged into this collection (0579-0299). Upon renewal of this information collection request, 0579-0476 will be discontinued.

We are asking OMB to approve our use of these information collection activities, as described, for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 4.27 hours per response.

Respondents: State and private veterinarians and animal scientists.

Estimated annual number of respondents: 77.

Estimated annual number of responses per respondent: 20.

Estimated annual number of responses: 1,548.

Estimated total annual burden on respondents: 6,615 hours. (Due to averaging, the total annual burden hours may not equal the product of the annual number of responses multiplied by the reporting burden per response.)

All responses to this notice will be summarized and included in the request for OMB approval. All comments will also become a matter of public record.

Done in Washington, DC, this 2nd day of June 2022.
Anthony Shea,
Administrator, Animal and Plant Health Inspection Service.

[FR Doc. 2022-12249 Filed 6-6-22; 8:45 am]

BILLING CODE 3410-34-P